DEPARTMENT OF THE TREASURY

Submission for OMB Review; Comment Request

March 15, 2013.

The Department of the Treasury will submit the following information collection request to the Office of Management and Budget (OMB) for review and clearance in accordance with the Paperwork Reduction Act of 1995, Public Law 104-13, on or after the date of publication of this notice.

DATES: Comments should be received on or before April 22, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Terrorism Risk Insurance Program

OMB Number: 1505-0190.

Type of Review: Extension without change of a currently approved collection.

Title: Terrorism Risk Insurance Program Rebuttal of Controlling Influence Submission.

Abstract: Title 31 CFR 50.8 specifies a rebuttal procedure that requires a written submission by an insurer that seeks to rebut a regulatory presumption of “controlling influence” over another insurer under the Terrorism Risk Insurance Program to provide Treasury with necessary information to make a determination.

Affected Public: Private Sector: Businesses or other for-profits.

Estimated Total Burden Hours: 400.

Dawn D. Wolfgang,
Treasury PRA Clearance Officer.

[FR Doc. 2013-06459 Filed 3-20-13; 8:45 am]

BILLING CODE 4810-25-P